DEPARTMENT OF AGRICULTURE

Farm Service Agency

Notice of Request for Revision and Extension of Currently Approved Information Collection—Emergency Farm Loan Program

AGENCY: Farm Service Agency, USDA.

ACTION: Notice and request for comments.

SUMMARY: In accordance with the Paperwork Reduction Act of 1995, this notice announces the intent of Farm Service Agency (FSA) to request an extension of currently approved information collections used in support of FSA's Emergency Loan Program.

DATES: Comments on this notice must be received on or before September 16, 2003 to be assured consideration.

FOR FURTHER INFORMATION CONTACT: Janet Downs, Senior Loan Officer, USDA, Farm Service Agency, Loan Making Division, 1400 Independence Avenue, SW., Stop 0522, Washington, DC 20250-0522; Telephone (202) 720-0599; e-mail: janet_downs@wdc.usda.gov.

SUPPLEMENTARY INFORMATION: Title: 7 CFR 764, Emergency Farm Loans.

OMB Control Number: 0560-0159.

Expiration Date of Approval: 01/31/2004.

Type of Request: Extension of Currently Approved Information Collection.

Abstract: The information collected under control number 0560-0159 is needed for FSA to effectively administer the Emergency Loan Program in accordance with the requirements of 7 CFR 764 as authorized by the Consolidated Farm and Rural Development Act (CONACT). The collected information is submitted to the Agency loan official by loan applicants and commercial lenders for use in making program eligibility and financial feasibility determinations as required by the CONACT.

Estimate of Burden: Public reporting burden for this collection of information is estimated to average .77 hours per response.

Respondents: Individual farmers and commercial lenders.

Estimated Number of Respondents: 4,961.

Estimated Number of Responses per Respondent: 1.

Estimated Total Annual Burden on Respondents: 3,816.

Comments are sought on these requirements including: (a) If the collection of information is necessary for the proper performance of the functions of the Agency, including whether the information will have practical utility, (b) the accuracy of the Agency's estimate of burden including the validity of the methodology and assumptions used, (c) ways to enhance the quality, utility and clarity of the information being collected, and (d) ways to minimize the burden of the collection of information on those who are to respond, including through the use of appropriate automated, electronic, mechanical, or other technological collection techniques or other forms of information technology.

These comments should be sent to the Desk Officer for Agriculture, Office of Information and Regulatory Affairs, Office of Management and Budget, Washington, DC 20503 and to Janet Downs, USDA, FSA, Farm Loan Programs, Loan Making Division, 1400 Independence Avenue, SW., Stop 0522, Washington, DC 20250-0522. Copies of the information collection may be obtained from Janet Downs at the above address. Comments regarding paperwork burden will be summarized and included in the request for OMB approval of the information collection. All comments will also become a matter of public record.

Signed in Washington, DC on July 10, 2003.
James R. Little,
Administrator, Farm Service Agency.

[FR Doc. 03-18194 Filed 7-17-03; 8:45 am]

BILLING CODE 3410-05-P